FEDERAL MARITIME COMMISSION

Sunshine Act Meeting

AGENCY HOLDING THE MEETING: Federal Maritime Commission.

TIME AND DATE: September 20, 2016; 10:00 a.m.

PLACE: 800 N. Capitol Street NW., First Floor Hearing Room, Washington, DC.

STATUS: The first portion of the meeting will be held in Open Session; the second in Closed Session.

MATTERS TO BE CONSIDERED:

Open Session

1. Briefing by Commissioner Maffei on U.S./Japan Bilateral Discussions

2. Staff Briefing on Foreign-based NVOCC Registration Renewal Process (Form FMC-65)

Closed Session

1. Staff Briefing on Hanjin Shipping Bankruptcy and Shipping Disruptions

2. Staff Briefing on the Maersk/MSC Vessel Sharing Agreement, FMC Agreement No. 012293

CONTACT PERSON FOR MORE INFORMATION: Rachel E. Dickon, Assistant Secretary, (202) 523-5725.

Rachel E. Dickon,
Assistant Secretary.

[FR Doc. 2016-22299 Filed 9-13-16; 4:15 pm]

BILLING CODE 6730-AA-P